DEPARTMENT OF EDUCATION

[CFDA No. 84.116J]

Fund for the Improvement of Postsecondary Education (FIPSE)—Special Focus Competition: European Community-United States of America Cooperation Program in Higher Education and Vocational Education and Training; Notice Inviting Applications for New Awards for Fiscal Year (FY) 2001

Purpose of Program: To provide grants or enter into cooperative agreements to improve postsecondary education opportunities by focusing on problem areas or improvement approaches in postsecondary education.

Eligible Applicants: Institutions of higher education and vocational education and training or combinations of institutions and other public and private nonprofit educational institutions and agencies.

Deadline for Transmittal of Applications: May 29, 2001.

Deadline for Intergovernmental Review: July 30, 2001.

Applications Available: April 2, 2001.

Available Funds: $840,000 in fiscal year 2001; $2,370,000 over three years.

Estimated Range of Awards: $25,000-$200,000 total for up to three years.

Estimated Average Size of Awards: $25,000 for one-year preparatory projects; $50,000 per year for one- or two-year complementary activities projects; $50,000 for year one of a three-year consortia implementation project, with a $200,000 three-year total.

Estimated Number of Awards: 10-15.

Note: The Department is not bound by any estimates in this notice.

Project Period: Up to 36 months.

Applicable Regulations: The Education Department General Administrative Regulations (EDGAR) in 34 CFR Parts 74, 75, 77, 79, 80, 82, 85, 86, 97, 98, and 99.

SUPPLEMENTARY INFORMATION: Under the Special Focus Competition, we will award grants or enter into cooperative agreements that focus on problem areas or improvement approaches in postsecondary education. We have included an invitational priority to encourage proposals designed to support the formation of educational consortia of institutions and organizations in the U.S. and the European Union to encourage cooperation in the coordination of curricula, the exchange of students and the opening of educational opportunities between the U.S. and the European Union. The invitational priority is issued in cooperation with the European Union. European institutions participating in any consortium proposal responding to the invitational priority may apply to the European Commission's Directorate General for Education and Culture for additional funding under a separate European competition.

Priority

Invitational Priority

The Secretary is particularly interested in applications that meet the following invitational priority. However, an application that meets this invitational priority does not receive competitive or absolute preference over other applications (34 CFR 75.105(c)(1)).

Invitational Priority: Projects that support consortia of institutions of higher education and vocational education and training to promote institutional cooperation and student mobility between the United States and the Member States of the European Union.

Methods for Applying Selection Criteria: The Secretary gives equal weight to the listed criteria. Within each of the criteria, the Secretary gives equal weight to each of the factors.

Selection Criteria: In evaluating applications for grants under this program competition, the Secretary uses the following selection criteria chosen from those listed in 34 CFR 75.210.

1. The significance of the proposed project, as determined by—

a. The extent to which the proposed project involves the development or demonstration of promising new strategies that build on, or are alternatives to, existing strategies;

b. The likely utility of the products (such as information, materials, processes, or techniques) that will result from the proposed project, including the potential for their being used in a variety of other settings; and

c. The importance or magnitude of the results or outcomes likely to be attained by the proposed project, especially improvements in teaching and student achievement.

2. The quality of the design of the proposed project, as determined by—

a. The extent to which the goals, objectives, and outcomes to be achieved by the proposed project are clearly specified and measurable; and

b. The extent to which the design of the proposed project is appropriate to, and will successfully address, the needs of the target population or other identified needs.

3. The adequacy of resources, as determined by—

a. The extent to which the costs are reasonable in relation to the objectives, design, and potential significance of the proposed project;

b. The potential for continued support of the project after Federal funding ends, including, as appropriate, the demonstrated commitment of appropriate entities to such support; and

c. The relevance and demonstrated commitment of each partner in the proposed project to the implementation and success of the project.

For Applications Contact: Education Publications Center (ED Pubs), P.O. Box 1398, Jessup, MD 20794-1398, Telephone (toll free) 1-877-433-7827, fax (301) 470-1244. If you use a telecommunications device for the deaf (TDD), you may call (toll free) 1-877-576-7734.

You may also contact ED Pubs at its web site: http://www.ed.gov/pubs/edpubs.html.

Or you may contact ED Pubs at its e-mail address: edpubs@inet.ed.gov.

If you request an application from Ed Pubs, be sure to identify this competition as follows: CFDA number 84.116J.

FOR FURTHER INFORMATION CONTACT: Beverly Baker, U.S. Department of Education, 1990 K Street, NW., room 8034, Washington, DC 20006-8544, Telephone 202-502-7500.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT. Individuals with disabilities may obtain a copy of the application package in an alternative format, also, by contacting that person. However, the Department is not able to reproduce in an alternative format the standard forms included in the application package.

Electronic Access to This Document

You may view this document, as well as all other Department of Education documents published in the Federal Register, in text or Adobe Portable Document Format (PDF) on the Internet at either of the following sites: http://ocfo.ed.gov/fedreg.htm; or http://www.ed.gov/news.html.

To use PDF you must have the Adobe Acrobat Reader which is available free at either of the previous sites. If you have questions about using PDF, call the U.S. Government Printing Office (GPO), toll free, at 1-888-293-6498; or in Washington, DC at (202) 512-1530.

Note: The official version of a document is the document as published in the Federal Register. Free Internet access to the official edition of the Federal Register and the Code of Federal Regulations is available on GPO Access at: http://www.access.gpo.gov/nara/index.html.

Program Authority: 20 U.S.C. 1135-1135a-3.
Dated: March 19, 2001.
Maureen McLaughlin,
Deputy Assistant Secretary for Policy, Planning, and Innovation, Office of Postsecondary Education.

[FR Doc. 01-7124 Filed 3-30-01; 8:45 am]

BILLING CODE 4000-01-P